DEPARTMENT OF THE TREASURY

Internal Revenue Service

Proposed Collection; Comment Request for Statistical Sampling for Purposes of Section 199

AGENCY: Internal Revenue Service (IRS), Treasury.

ACTION: Notice and request for comments.

SUMMARY: The Department of the Treasury, as part of its continuing effort to reduce paperwork and respondent burden, invites the general public and other Federal agencies to take this opportunity to comment on proposed and/or continuing information collections, as required by the Paperwork Reduction Act of 1995. Currently, the IRS is soliciting comments concerning Revenue Procedure Revenue Procedure 2007-35, Statistical Sampling for purposes of Section 199.

DATES: Written comments should be received on or before June 12, 2017 to be assured of consideration.

ADDRESSES: Direct all written comments to Laurie Brimmer, Internal Revenue Service, Room 6526, 1111 Constitution Avenue NW., Washington, DC 20224.

Requests for copies of the revenue procedure should be directed to Sara Covington, at Internal Revenue Service, Room 6526, 1111 Constitution Avenue NW., Washington, DC 20224, or through the internet, at Sara.L.Covington@irs.gov.

SUPPLEMENTARY INFORMATION: Title: Statistical Sampling for purposes of Section 199.

OMB Number: 1545-2072.

Revenue Procedure Number: RP-2007-35.

Abstract: This revenue procedure provides for determining when statistical sampling may be used in purposes of section 199, which provides a deduction for income attributable to domestic production activities, and establishes acceptable statistical sampling methodologies.

Current Actions: Extension of a previously approved collection.

Affected Public: Business or other for-profit institutions, and individuals or households or farms.

Estimated Number of Respondents: 300.

Estimated Time per Respondent: 8 hours.

Estimated Total Annual Burden Hours: 2,400.

The following paragraph applies to all of the collections of information covered by this notice:

An agency may not conduct or sponsor, and a person is not required to respond to, a collection of information unless the collection of information displays a valid OMB control number. Books or records relating to a collection of information must be retained as long as their contents may become material in the administration of any internal revenue law. Generally, tax returns and tax return information are confidential, as required by 26 U.S.C. 6103.

Request for Comments: Comments submitted in response to this notice will be summarized and/or included in the request for OMB approval. All comments will become a matter of public record. Comments are invited on: (a) Whether the collection of information is necessary for the proper performance of the functions of the agency, including whether the information shall have practical utility; (b) the accuracy of the agency's estimate of the burden of the collection of information; (c) ways to enhance the quality, utility, and clarity of the information to be collected; (d) ways to minimize the burden of the collection of information on respondents, including through the use of automated collection techniques or other forms of information technology; and (e) estimates of capital or start-up costs and costs of operation, maintenance, and purchase of services to provide information.

Approved: March 30, 2017.
Laurie Brimmer,
IRS Senior Tax Analyst.

[FR Doc. 2017-07195 Filed 4-10-17; 8:45 am]

BILLING CODE 4830-01-P